ENVIRONMENTAL PROTECTION AGENCY

40 CFR Parts 60 and 62

[EPA-HQ-OAR-2011-0405 and EPA-HQ-OAR-2006-0534; FRL- 9802-3]

RIN 2060-AR-11 and RIN 2060-A004

Federal Plan Requirements for Hospital/Medical/Infectious Waste Incinerators Constructed On or Before December 1, 2008, and Standards of Performance for New Stationary Sources: Hospital/Medical/Infectious Waste Incinerators

Correction

In rule document 2013-09427 appearing on pages 28052-28078 in the issue of Monday, May 13, 2013, make the following correction:

§ 62.14470 [Corrected]

1. On page 28074, in the third column, in the fifth line, “May 13, 2016” should read “August 13, 2013”.

[FR Doc. C1-2013-09427 Filed 9-5-13; 8:45 am]

BILLING CODE 1505-01-D